DEPARTMENT OF JUSTICE

Notice of Proposed Consent Decree Under the Park System Resource Protection Act

Notice is hereby given that on September 17, 2007, a proposed consent decree in United States v. Nuthen's Purfect, Inc., Civil Action No. 06-cv-22249, was lodged with the United States District Court for the Southern District of Florida.

In this action, filed pursuant to the Park System Resource Protection Act (“PSRPA”), 16 U.S.C. 19jj et seq., the United States sought response costs and damages against Nuthen's Purfect, Inc. (“Nuthen's Purfect”) due to a vessel grounding that occurred in the Everglades National Park on April 18, 2002. The United States Department of Justice, on behalf of the U.S. Department of the Interior, National Park Service (“DOI”), has reached a settlement with Nuthen's Purfect regarding these claims. Pursuant to the Consent Decree, the United States will recover $50,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the Consent Decree between the United States and Nuthen's Purfect, DOJ Ref. No. 90-5-1-1-08521.

The proposed Consent Decree may be examined at the Everglades National Park, 40001 State Road 9336, Homestead, FL 33034, and at the Department of the Interior, Office of the Solicitor, Southeast Regional Office, Richard B. Russell Federal Building, 75 Spring Street, SW., Atlanta, Georgia 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.25 (25 cents per page reproduction cost) payable to the U.S. Treasury or, if by e-mail or fax, forward a check in that amount to the Consent Decree Library at the stated address.

Henry S. Friedman,
Assistant Section Chief, Environmental Enforcement Section, Environment and Natural Resources Division.

[FR Doc. 07-5417 Filed 10-30-07; 8:45 am]

BILLING CODE 4410-15-M